FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 12, 2004.

A. Federal Reserve Bank of Chicago (Patrick Wilder, Managing Examiner) 230 South LaSalle Street, Chicago, Illinois 60690-1414:

1. Steven D. Dehnert, Lake Mills, Wisconsin; Cheryl A. Dobson, Fort Atkinson, Wisconsin, and Steven R. Hein, Edgerton, Wisconsin, as trustees; to acquire voting shares of Citizens Financial Corporation Employee Stock Ownership Plan and Trust, Fort Atkinson, Wisconsin, and thereby indirectly acquire voting shares of Citizens State Bank and Trust, Fort Atkinson, Wisconsin.

Board of Governors of the Federal Reserve System, January 23, 2004.
Robert deV. Frierson,
Deputy Secretary of the Board.

[FR Doc. 04-1892 Filed 1-28-04; 8:45 am]

BILLING CODE 6210-01-S